INTERNATIONAL TRADE COMMISSION

[Investigation No. 731-TA-991 (Fourth Review)]

Silicon Metal From Russia; Determination

On the basis of the record ¹ developed in the subject five-year review, the United States International Trade Commission (“Commission”) determines, pursuant to the Tariff Act of 1930 (“the Act”), that revocation of the antidumping duty order on silicon metal from Russia would be likely to lead to continuation or recurrence of material injury to an industry in the United States within a reasonably foreseeable time.

¹ The record is defined in § 207.2(f) of the Commission's Rules of Practice and Procedure (19 CFR 207.2(f)).

Background

The Commission instituted this review on May 1, 2025 (90 FR 18701, May 1, 2025) and determined on August 29, 2025, that it would conduct an expedited review (90 FR 42218, August 29, 2025).

The Commission made this determination pursuant to section 751(c) of the Act (19 U.S.C. 1675(c)). It completed and filed its determination in this review on December 16, 2025. The views of the Commission are contained in USITC Publication 5965 (December 2025), entitled Silicon Metal from Russia: Investigation No. 731-TA-991 (Fourth Review).

By order of the Commission.
Issued: December 29, 2025.
Susan Orndoff,
Supervisory Attorney.

[FR Doc. 2025-24156 Filed 12-31-25; 8:45 am]

BILLING CODE 7020-02-P